DEPARTMENT OF DEFENSE

Department of the Air Force

U.S. Air Force Air University Board of Visitors Meeting

AGENCY: Department of the Air Force, Air University Headquarters.

ACTION: Notice of meeting.

SUMMARY: The Air University Board of Visitors will hold an open meeting on 12-15 November 2006 and 15-18 April 2007. The first business session of each meeting will begin in the Air University Commander's Conference Room at Headquarters Air University, Maxwell Air Force Base, Alabama, (5 seats available). The purpose of the meeting is to give the board an opportunity to review Air University educational programs and to present to the Commander, a report of their findings and recommendations concerning these programs.

FOR FURTHER INFORMATION CONTACT: Contact Dr. Dorothy Reed, Chief of Academic Affairs, Air University Headquarters, Maxwell Air Force Base, Alabama 36112-6335, telephone (334) 953-5159.

Bao-Anh Trinh,
Air Force Federal Register Liaison Officer.

[FR Doc. E6-14810 Filed 9-6-06; 8:45 am]

BILLING CODE 5001-05-P